FEDERAL COMMUNICATIONS COMMISSION

47 CFR Part 73

[DA 02-3567; MB Docket No. 02-388; RM-10624]

Television Broadcasting Services; Sterling and Fort Morgan, Colorado

AGENCY: Federal Communications Commission.

ACTION: Proposed rule.

SUMMARY: This notice of proposed rule making requests comments on a petition for rulemaking filed by Channel 20 TV Company (“Petitioner”), licensee of Station KUPN(TV), NTSC Channel 3, and permittee of Digital Channel 23, Sterling, Colorado. Petitioner proposes to change Station KUPN(TV)'s community of license from Sterling to Fort Morgan, Colorado. The coordinates for Petitioner's proposed new location are: 39-56-18 NL and 103-52-06 WL.

Petitioner's reallotment proposal complies with the provisions of section 1.420(i) of the Commission's rules, and therefore, the Commission will not accept competing expressions of interest in the use of NTSC Channel 3 and Digital Channel 23 at Fort Morgan, Colorado, or require the Petitioner to demonstrate the availability of additional equivalent class channels for use by other parties.

DATES: Comments must be filed on or before February 14, 2003, and reply comments on or before March 3, 2003.

ADDRESSES: Secretary, Federal Communications Commission, 445 12th Street, SW., Room TW-A325, Washington, DC 20554. In addition to filing comments with the FCC, interested parties should serve the Petitioner's counsel, as follows: Edward W. Hummers, Jr., Esq., Holly Rachel Smith, Esq., Holland & Knight LLP; 2099 Pennsylvania Ave., NW., Suite 100; Washington, DC 20006-6801.

FOR FURTHER INFORMATION CONTACT: R. Barthen Gorman, Media Bureau, (202) 418-2180.

SUPPLEMENTARY INFORMATION: This is a synopsis of the Commission's notice of proposed rule making, MB Docket No. 02-388, adopted December 20, 2002, and released December 24, 2002. The full text of this Commission decision is available for inspection and copying during regular business hours in the FCC's Reference Information Center at Portals II, 445 12th Street, SW., CY-A257, Washington, DC 20554. This document may also be purchased from the Commission's duplicating contractors, Qualex International, Portals II, 445 12th Street, SW., Room CY-B402, Washington, DC 20554, telephone 202-863-2893, facsimile 202-863-2898, or via e-mail qualexint@aol.com.

The provisions of the Regulatory Flexibility Act of 1980 do not apply to this proceeding.

Members of the public should note that from the time a notice of proposed rule making is issued until the matter is no longer subject to Commission consideration or court review, all ex parte contacts are prohibited in Commission proceedings, such as this one, which involve channel allotments. See 47 CFR 1.1204(b) for rules governing permissible ex parte contacts.

For information regarding proper filing procedures for comments, see 47 CFR 1.415 and 1.420.

List of Subjects in 47 CFR Part 73

Television, Television broadcasting.

For the reasons discussed in the preamble, the Federal Communications Commission proposes to amend 47 CFR part 73 as follows:

PART 73—TELEVISION BROADCAST SERVICES

1. The authority citation for part 73 continues to read as follows:

Authority: 47 U.S.C. 154, 303, 334, and 336.

§ 73.606 [Amended]

2. Section 73.606(b), the Table of TV Allotments under Colorado, is amended by removing Channel 3 at Sterling, and by adding Fort Morgan, Channel 3.

3. Section 73.622(b), the Table of DTV Allotments under Colorado, is amended by adding Fort Morgan, Channel 23.

Federal Communications Commission.
John A. Karousos,
Assistant Chief, Audio Division, Media Bureau.

[FR Doc. 03-664 Filed 1-10-03; 8:45 am]

BILLING CODE 6712-01-P